DEPARTMENT OF AGRICULTURE

Forest Service

Deschutes Provincial Advisory Committee (DPAC); Notice of Meeting

AGENCY: Forest Service.

ACTION: Notice of Meeting.

SUMMARY: The Deschutes Provincial Advisory Committee will meet on September 29, 2011 to conduct a field review of stream and riparian restoration projects. The meeting will also discuss the Forest Service and BLM integrated weed management programs. Members will meet at the Deschutes National Forest Supervisor's office, Upper Deschutes Conference Room (1001 SW. Emkay Drive, Bend, Oregon) from 8 a.m. until 5 p.m. All Deschutes Province Advisory Committee meetings are open to the public.

FOR FURTHER INFORMATION CONTACT: Michael Keown, Province Liaison, Sisters Ranger District, Pine Street and Highway 20, Sisters, Oregon, 97759, Phone (541) 549-7735.

John Allen,
Deschutes National Forest Supervisor.

[FR Doc. 2011-25761 Filed 10-6-11; 8:45 am]

BILLING CODE 3410-11-M